FEDERAL COMMUNICATIONS COMMISSION

Notice of Public Information Collection(s) Being Reviewed by the Federal Communications Commission for Extension Under Delegated Authority

November 17, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before January 24, 2005. If you anticipate that you will be submitting comments, but find it difficult to do so within the period of time allowed by this notice, you should advise the contact listed below as soon as possible.

ADDRESSES: Direct all Paperwork Reduction Act (PRA) comments to Cathy Williams, Federal Communications Commission, Room 1-C823, 445 12th Street, SW., Washington, DC 20554 or via the Internet to Cathy.Williams@fcc.gov.

FOR FURTHER INFORMATION CONTACT: For additional information or copies of the information collection(s), contact Cathy Williams at 202-418-2918 or via the Internet at Cathy.Williams@fcc.gov.

SUPPLEMENTARY INFORMATION: OMB Control Number: 3060-0180.

Title: Section 73.1610, Equipment Tests.

Form Number: Not applicable.

Type of Review: Extension of a currently approved collection.

Respondents: Business or other for-profit entities; Not-for-profit institutions.

Number of Respondents: 500.

Estimated Time Per Response: 0.5 hours.

Frequency of Response: On occasion reporting requirement.

Total Annual Burden: 250 hours.

Total Annual Cost: None.

Privacy Act Impact Assessment: No impact(s).

Needs and Uses: 47 CFR Section 73.1610 requires the permittee of a new broadcast station to notify the FCC of its plans to conduct equipment tests for the purpose of making adjustments and measurements as may be necessary to assure compliance with the terms of the construction permit and applicable engineering standards. The data is used by FCC staff to assure compliance with the terms of the construction permit and applicable engineering standards.

OMB Control Number: 3060-0374.

Title: Section 73.1690, Modification of Transmission System.

Form Number: Not applicable.

Type of Review: Extension of a currently approved collection.

Respondents: Business or other for-profit entities; Not-for-profit institutions.

Number of Respondents: 600.

Estimated Time Per Response: 0.5-3 hours.

Frequency of Response: Recordkeeping requirement; On occasion reporting requirement.

Total Annual Burden: 1,050 hours.

Total Annual Cost: None.

Privacy Act Impact: No impact(s).

Needs and Uses: 47 CFR Section 73.1690(e) requires AM, FM and TV station licensees to prepare an informal statement or diagram describing any electrical and mechanical modification to authorized transmitting equipment that can be made without prior Commission approval provided that equipment performance measurements are made to ensure compliance with FCC rules. This informal statement or diagram is to be retained at the transmitter site as long as the equipment is in use. The data is used by broadcast licensees to provide prospective users of the modified equipment with necessary information.

OMB Control Number: 3060-0837.

Title: Application for DTV Broadcast Station License.

Form Number: FCC Form 302-DTV.

Type of Review: Extension of a currently approved collection.

Respondents: Business or other for-profit entities; Not-for-profit institutions.

Number of Respondents: 600.

Estimated Time Per Response: 1.5-2 hours.

Frequency of Response: On occasion reporting requirement.

Total Annual Burden: 950 hours.

Total Annual Cost: $245,000.

Privacy Act Impact: No impact(s).

Needs and Uses: Licensees and permittees of DTV broadcast stations are required to file FCC Form 302-DTV to obtain a new or modified station license, and/or to notify the Commission of certain changes in the licensed facilities of these stations. The data is used by FCC staff to confirm that the station has been built to terms specified in the outstanding construction permit, and to update FCC station files. Data is then extracted from FCC Form 302-DTV for inclusion in the subsequent license to operate the station.

Federal Communications Commission.
Marlene H. Dortch,
Secretary.

[FR Doc. 04-25947 Filed 11-22-04; 8:45 am]

BILLING CODE 6712-01-P